DEPARTMENT OF TRANSPORTATION

Federal Aviation Administration

[Summary Notice No. PE-2000-54]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before October 23, 2000.

ADDRESSES: Send comments on any petition in triplicate to: Federal Aviation Administration, Office of the Chief Counsel, Attn: Rule Docket (AGC-200), Petition Docket No. ________, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Forest Rawls (202) 267-8033, or Vanessa Wilkins (202) 267-8029 Office of Rulemaking (ARM-1), Federal Aviation Administration, 800 Independence Avenue, SW., Washington, DC 20591.

This notice is published pursuant to § 11.85 and 11.91 of Part 11 of the Federal Aviation Regulations (14 CFR Part 11).

Issued in Washington, DC, on September 27, 2000.
Donald P. Byrne,
Assistant Chief Counsel for Regulations.

Dispositions of Petitions

Docket No.: 30010

Petitioner: Avcon Industries, Inc.

Section of the FAR Affected: 14 CFR § 25.87(e)(4)

Description of Relief Sought/Disposition: To permit supplemental type certification of the Learjet Models 20 and 30 series airplanes, modified for the carriage of cargo, to exclude hazardous quantities of smoke, flames, or noxious gases from the flight crew compartment.

Grant, 09/05/00, Exemption No. 7341

Docket No.: 28660

Petitioner: The Collings Foundation

Section of the FAR Affected: 14 CFR §§ 91.315, 93.319(a), 119.5(g), and 119.21(a)

Description of Relief Sought/Disposition: To permit Collings to operate its Boeing B-17 (B-17) aircraft, which is certificated in the limited category, and its Consolidated B-24 (B-24) aircraft, which is certificated in the experimental category, for the purpose of carrying passengers on local flights for compensation or hire. You request that the jurisdictional Flight Standards District Office (FSDO) be changed in the grant of exemption (i.e., Condition No. 10) from “NE FSDO No. 1” to the FAA's SO FSDO No. 15, 5950 Hazeltine National Drive, Suite 550, Orlando, Florida 32822-5023, because Collings is relocating its base of maintenance and operations to Orlando, Florida and Smyrna Beach, Florida.

Grant, 09/05/00, Exemption No. 6540C

Docket No.: 29914

Petitioner: Gemini Air Cargo, Inc.

Section of the FAR Affected: 14 CFR § 121.583(a)(8)

Description of Relief Sought/Disposition: To permit up to three dependents of GAC employees who are accompanied by an employee sponsor traveling on official business only and who are trained and qualified in the operation of the emergency equipment on GAC's Boeing-DC-10-30F and MD-11F all-cargo airplanes, to be added to the list of persons specified in § 121.583(a)(8) that GAC is authorized to transport without complying with the passenger-carrying airplane requirements in §§ 121.309(f), 121.310, 121.391, 121.571, and 121.587; the passenger-carrying operation requirements in §§ 121.157(c), 121.161, and 121.291; and the requirements pertaining to passengers in §§ 121.285, 121.313(f), 121.317, 121.547, and 121.573.

Grant, 08/25/00, Exemption No. 7339

Docket No.: 30179

Petitioner: Evergreen International Airlines, Inc.

Section of the FAR Affected: 14 CFR Special Federal Aviation Regulation No. 79

Description of Releif Sought/Disposition: To permit one flight to Pyongyang, the capital city of the Democratic People's Republic of Korea, on or about August 28, 2000.

Grant, 08/24/00, Exemption No. 7325

Docket No.: 30189

Petitioner: Experimental Aircraft Association Chapter 1056

Section of the FAR Affected: 14 CFR §§ 135.251, 135.255, 135.353, and appendixes I and J to part 121

Description of Relief Sought/Disposition: To permit EAA Chapter 1056 to conduct local sightseeing flights at Maple Grove Airport, Fowlerville, Michigan, for a two-day charitable event in September 2000, for compensation or hire, without complying with certain anti-drug and alcohol misuse prevention requirements of part 135.

Grant, 09/08/00, Exemption No. 7343

[FR Doc. 00-25266 Filed 10-3-00; 8:45 am]

BILLING CODE 4910-13-M